DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Marine Recreational Information Program, Hawaii Mail-in Survey for Shore Fishing Effort.

OMB Control Number: 0648-xxxx.

Form Number(s): NA.

Type of Request: Regular submission (request for a new information collection).

Number of Respondents: 1,200.

Average Hours per Response: 20 minutes.

Burden Hours: 400.

Needs and Uses: This request is for a new information collection.

Marine recreational anglers are surveyed to collect catch and effort data, fish biology data, and angler socioeconomic characteristics. These data are required to carry out provisions of the Magnuson-Stevens Fishery Conservation and Management Act (16 U.S.C. 1801 et seq.), as amended, regarding conservation and management of fishery resources.

Marine recreational fishing catch and effort data are collected through a combination of mail surveys, telephone surveys and on-site intercept surveys with recreational anglers. Amendments to the Magnuson-Stevens Fishery Conservation and Management Act (MSA) require the development of an improved data collection program for recreational fisheries. To meet these requirements, NOAA Fisheries has designed and tested new approaches for sampling and surveying recreational anglers.

A mail survey of all anglers within a household will be used to collect recent fishing effort data including gear and methods of fishing from shore. The main purpose will be to compare to on-site roving counts of shore fishing effort during the same period and to produce adjustment factors for under-coverage of the roving on-site survey (the roving effort survey does not require response from the public). The survey scope is Oahu, during a single 2-month sampling wave (current schedule September-October, 2014). The effort surveys will use catch data from the ongoing shore angler intercept survey to produce estimates of total catch, harvested catch, and live released catch.

Affected Public: Individuals or households.

Frequency: One-time only.

Respondent's Obligation: Voluntary.

This information collection request may be viewed at reginfo.gov. Follow the instructions to view Department of Commerce collections currently under review by OMB.

Written comments and recommendations for the proposed information collection should be sent within 30 days of publication of this notice to OIRA_Submission@omb.eop.gov or faxed to (202) 395-5806.

Dated: July 28, 2014
Gwellnar Banks,
Management Analyst, Office of the Chief Information Officer.

[FR Doc. 2014-18130 Filed 7-31-14; 8:45 am]

BILLING CODE 3510-22-P